DEPARTMENT OF THE TREASURY

Submission for OMB Review; Comment Request

The Department of the Treasury is planning to submit the following information collection request to the Office of Management and Budget (OMB) for review and clearance in accordance with the Paperwork Reduction Act of 1995, Public Law 104-13.

DATES: Comments should be received on or before March 18, 2014 to be assured of consideration.

ADDRESSES: Send comments regarding the burden estimate, or any other aspect of the information collection, including suggestion for reducing the burden, to Robert Dahl, Departmental Clearance Officer, U.S. Department of the Treasury, Suite 8111, 1750 Pennsylvania Ave. NW., Washington, DC 20006. (202) 622-3119.

FOR FURTHER INFORMATION CONTACT: Copies of the submission(s) may be obtained by calling (202) 622-3119, email at PRA@treasury.gov, or the entire information collection request maybe found at www.reginfo.gov.

Treasury Departmental Offices

OMB Number: 1505-0231.

Type of Review: Extension without change.

Title: Generic Clearance for the Collection of Qualitative Feedback on Agency Service Delivery.

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

Average Expected Annual Number of activities: 40.

Respondents: 40,000.

Annual responses: 40,000.

Frequency of Response: Once per request.

Average minutes per response: 60.

Burden hours: 40,000.

Robert Dahl,
Treasury PRA Clearance Officer.

[FR Doc. 2014-00835 Filed 1-16-14; 8:45 am]

BILLING CODE 4810-25-P